DEPARTMENT OF TRANSPORTATION

Federal Aviation Administration

Index of Administrator's Decisions and Orders in Civil Penalty Actions; Publication

AGENCY: Federal Aviation Administration (FAA), DOT.

ACTION: Notice of publication.

SUMMARY: This notice constitutes the required quarterly publication of an index of the Administrator's decisions and orders in civil penalty cases. This publication represents the quarter ending on December 31, 2000. This publication ensures that the agency is in compliance with statutory indexing requirements.

FOR FURTHER INFORMATION CONTACT: James S. Dillman, Assistant Chief Counsel for Litigation (AGC-400), Federal Aviation Administration, 400 7th Street, SW., Suite PL 200-A, Washington, DC 20590: telephone (202) 366-4118.

SUPPLEMENTARY INFORMATION: The Administrative Procedure Act requires Federal agencies to maintain and make available for public inspection and copying current indexes containing identifying information regarding materials required to be made available or published. 5 U.S.C. 552(a)(2). In a notice issued on July 11, 1990, and published in the Federal Register (55 FR 29148; July 17, 1990), the FAA announced the public availability of several indexes and summaries that provide identifying information about the decisions and orders issued by the Administrator under the FAA's civil penalty assessment authority and the rules of practice governing hearings and appeals of civil penalty actions. 14 CFR part 13, subpart G.

The FAA maintains an index of the Administrator's decisions and orders in civil penalty actions organized by order number and containing identifying information about each decision or order. The FAA also maintains a cumulative subject-matter index and digests organized by order number. The indexes are published on a quarterly basis (i.e., January, April, July, and October.)

The FAA first published these indexes and digests for all decisions and orders issued by the Administrator through September 30, 1990. 55 FR 45984; October 31, 1990. The FAA announced in that notice that only the subject-matter index would be published cumulatively and that the order number index would be non-cumulative. The FAA announced in a later notice that the order number indexes published in January would reflect all of the civil penalty decisions for the previous year. 58 FR 5044; 1/19/93.

The previous quarterly publications of these indexes have appeared in the Federal Register as follows:

Dates of quarter | Federal Register publication
11/1/89-9/30/90 | 55 FR 45984; 10/31/90
10/1/90-12/31/90 | 56 FR 44886; 2/6/91
1/1/91-3/31/91 | 56 FR 20250; 5/2/91
4/1/91-6/30/91 | 56 FR 31984; 7/12/91
7/1/91-9/30/91 | 56 FR 51735; 10/15/91
10/1/91-12/31/91 | 57 FR 2299; 1/21/92
1/1/92-3/31/92 | 57 FR 12359; 4/9/92
4/1/92-6/30/92 | 57 FR 32825; 7/23/92
7/1/92-9/30/92 | 57 FR 48255; 10/22/92
10/1/92-12/31/92 | 58 FR 5044; 1/19/93
1/1/93-3/31/93 | 58 FR 21199; 4/19/93
4/1/93-6/30/93 | 58 FR 42120; 8/6/93
7/1/93-9/30/93 | 58 FR 58218; 10/29/93
10/1/93-12/31/93 | 59 FR 5466; 2/4/94
1/1/94-3/31/94 | 59 FR 22196; 4/29/94
4/1/94-6/30/94 | 59 FR 39618; 8/3/94
7/1/94-12/31/94 | 60 FR 4454; 1/23/95
1/1/95-3/31/95 | 60 FR 19318; 4/17/95
4/1/95-6/30/95 | 60 FR 36854; 7/18/95
7/1/95-9/30/95 | 60 FR 53228; 10/12/95
10/1/95-12/31/95 | 61 FR 1972; 1/24/96
1/1/96-3/31/96 | 61 FR 16955; 4/18/96
4/1/96-6/30/96 | 61 FR 37526; 7/18/96
7/1/96-9/30/96 | 61 FR 54833; 10/22/96
10/1/96-12/31/96 | 62 FR 2434; 1/16/97
1/1/97-3/31/97 | 62 FR 24533; 5/2/97
4/1/97-6/30/97 | 62 FR 38339; 7/17/97
7/1/97-9/30/97 | 62 FR 53856; 10/16/97
10/1/97-12/31/97 | 63 FR 3373; 1/22/98
1/1/98-3/31/98 | 63 FR 19559; 4/20/98
4/1/98-6/30/98 | 63 FR 37914; 7/14/98
7/1/98-9/30/98 | 63 FR 57729; 10/28/98
10/1/98-12/31/98 | 64 FR 1855; 1/12/99
1/1/99-3/31/99 | 64 FR 24690; 5/7/99
4/1/99-6/30/99 | 64 FR 43236; 8/9/99
7/1/99-9/30/99 | 64 FR 58879; 11/1/99
10/1/99-12/31/99 | 65 FR 1654; 1/11/00
1/1/00-3/31/00 | 65 FR 35973; 6/6/00
4/1/00-6/30/00 | 65 FR 47557; 8/2/00
7/1/00-9/30/00 | 65 FR 67445; 11/9/00

The civil penalty decisions and orders, and the indexes and digests are available in FAA offices. Also, the Administrator's civil penalty decisions have been published by commercial publishers (Hawkins Publishing Company and Clark Boardman Callaghan) and are available on computer on-line services (Westlaw, LEXIS, and Compuserve).

A list of the addresses of the FAA offices where the civil penalty decisions may be reviewed and information regarding these commercial publications and computer databases are provided at the end of this notice. Information regarding the accessibility of materials filed in recently initiated civil penalty cases in FAA civil penalty cases at the DOT Docket and over the Internet also appears at the end of this notice.

Civil Penalty Actions—Orders Issued by the Administrator

Order Number Index

(Includes all decisions and orders issued by the Administrator during calendar year 2000.)

2000-1—Ronald L. Gatewood

2/2/00—CP97EA0071, DMS No. FAA-1997-3292

2000-2—Ryan International Airlines

2/2/00—CP99GL0011, DMS No. FAA-1999-5805

2000-3—Warbelow's Air Ventures

2/2/00—CP97AL0012

2000-4—Ryan International Airlines

3/3/00—CP99GL0011, DMS No. FAA-1999-5805

2000-5—Blue Ridge Airlines

3/23/00—CP97NM0024

2000-6—Atlantic Coast Airlines

3/29/00—CP97SO0047

2000-7—Daniel A. Martinez

3/30/00—CP99NM0012, DMS No. FAA-1999-5984

2000-8—USA Jet Airlines

5/9/00—CP99SW0009, DMS No. FAA-1999-5783

2000-9—Tundra Copters

5/11/00—CP99AL0011, DMS No. FAA-1999-5983

2000-10—Johnny Johnson

5/11/2000—CP99SW0011, DMS No. FAA-1999-5821

2000-11—Europex

5/11/2000—CP98EA0042, DMS No. FAA-1998-4676

2000-12—Evergreen Helicopters

6/8/2000—CP97AL0001

2000-13—Empire Airlines

6/8/2000—CP98NM0011

2000-14—Warbelow's Air Ventures

6/8/2000—CP97AL0012

2000-15—David E. Everson

8/7/2000—CP99WA0002, DMS No. FAA-1999-5570

2000-16—Warbelow's Air Ventures

8/8/2000—CP97AL0012

2000-17—Howard Gotbetter

8/11/2000—CP98EA0051, DMS No. FAA-1998-4691

2000-18—California Helitech

8/11/2000—CP98WP0035

2000-19—James J. Horner

8/11/2000—CP99NM0004

2000-20—Phillips Building Supply

8/11/2000—CP99SO0024, DMS No. FAA-1999-5816

2000-21—Daniel A. Martinez

8/24/2000—CP99NM0012, DMS No. FAA-1999-5984

2000-22—John Nelson Meyer

12/13/00—CP99SW0004

2000-23—Federal Express

12/13/00—CP99SO0037, DMS No. FAA-2000-6732

2000-24—SONICO

12/21/00—CP98NM0018

2000-25—Riverdale Mills Corp.

12/21/00—CP98NE0017, DMS No. FAA-1998-4931

2000-26—Aero National

12/21/00—CP99EA0016, DMS No. FAA-1999-5449

2000-27—Phillips Building Supply

12/21/00—CP99SO0024, DMS No. FAA-1999-5816

2000-28—Lifelite Medical Air Transport

12/21/00—CP98WP0062

2000-29—William Stevenson

12/21/00—CP00NM0005

Civil Penalty Actions—Orders Issued by the Administrator

Subject Matter Index

(Current as of December 31, 2000)

Administrative Law Judges—Power and Authority:
Continuance of hearing | 91-11 Continental Airlines; 92-29 Haggland.
Credibility findings | 90-21 Carroll; 92-3 Park; 93-17 Metcalf; 94-3 Valley Air; 94-4 Northwest Aircraft Rental; 95-25 Conquest; 95-26 Hereth; 97-20 Werle; 97-30 Emery Worldwide Airlines; 97-32 Florida Propeller; 98-18 General Aviation; 99-6 Squire; 2000-3 Warbelow's; 2000-17 Gotbetter.
Default Judgment | 91-11 Continental Airlines; 92-47 Cornwall; 94-8 Nunez; 94-22 Harkins; 94-28 Toyota; 95-10 Diamond; 97-28 Continental Airlines; 97-33 Rawlings; 98-13 Air St. Thomas.
Discovery | 89-6 American Airlines; 91-17 KDS Aviation; 91-54 Alaska Airlines; 92-46 Sutton-Sautter; 93-10 Costello.
Expert Testimony | 94-21 Sweeney.
Granting extensions of time | 90-27 Gabbert.
Hearing location | 92-50 Cullop.
Hearing request | 93-12 Langton; 94-6 Strohl; 94-27 Larsen; 94-37 Houston; 95-19 Rayner.
Initial Decision | 92-1 Costello; 92-32 Barnhill.
Lateness of | 97-31 Sanford Air; 2000-19 Horner.
Should include requirement to file appeal brief | 98-5 Squire.
Jurisdiction:
Generally | 90-20 Degenhardt; 90-33 Cato; 92-1 Costello; 92-32 Barnhill.
After issuance of order assessing civil penalty | 94-37 Houston; 95-19 Rayner; 97-33 Rawlings.
When complaint is withdrawn | 94-39 Kirola.
Motion for Decision | 92-73 Wyatt; 92-75 Beck; 92-76 Safety Equipment; 93-11 Merkley; 96-24 Horizon; 98-20 Koenig.
No authority to extend due date for late Answer without showing of good cause. (See also Answer) | 95-28 Atlantic World Airways; 97-18 Robinson; 98-4 Larry's Flying Service.
Notice of Hearing | 92-31 Eaddy.
Regulate proceedings | 97-20 Werle.
Sanction | 90-37 Northwest Airlines; 91-54 Alaska Airlines; 94-22 Harkins; 94-28 Toyota.
Service of law judges by parties | 97-18 Robinson.
Vacate initial decision | 90-20 Degenhardt; 95-6 Sutton; 2000-24 SONICO.
Aerial Photography | 95-25 Conquest Helicopters.
Agency Attorney | 93-13 Medel.
Air Carrier/Aircraft Operator:
Agent/independent contractor of | 92-70 USAir; 2000-13 Empire Airlines.
Careless or Reckless | 92-48 & 92-70 USAir; 93-18 Westair Commuter.
Duty of care: Non-delegable | 92-70 USAir; 96-16 Westair Commuter; 96-24 Horizon; 97-8 Pacific Av. d/b/a Inter-Island Helicopters; 99-12 TWA; 2000-3 Warbelow's; 2000-13 Empire airlines.
Employee | 93-18 Westair Commuter; 97-8 Pacific Av. d/b/a Inter-Island Helicopters; 99-12 TWA; 99-14 Alika Aviation; 2000-1 Gatewood; 2000-3 Warbelow's.
Ground Security Coordinator, Failure to provide | 96-16 WestAir Commuter.
Intoxicated Passenger:
Allowing to board | 98-11 TWA.
Serving alcohol to | 98-11 TWA.
Liability for acts/omissions of employees in scope of employment | 98-11 TWA, 99-12 TWA; 99-14 Alika Aviation; 2000-1 Gatewood; 2000-3 Warbelow's.
Liability for maintenance by independent repair station | 2000-13 Empire Airlines.
Use of unqualified pilot | 99-15 Blue Ridge; 99-11 Evergreen; 2000-12 Evergreen.
Aircraft Maintenance (See also Airworthiness, Maintenance Manual) Generally | 90-11 Thunderbird Accessories; 91-8 Watts Agricultural Aviation; 93-36 & 94-3 Valley Air; 94-38 Bohan; 95-11 Horizon; 96-3 America West Airlines; 97-8 Pacific Av. d/b/a Inter-Island Helicopters; 97-9 Alphin; 97-10 Alphin; 97-11 Hampton; 97-30 Emery Worldwide Airlines; 97-31 Sanford Air; 98-18 General Aviation; 99-5 Africa Air; 2000-13 Empire Airlines; 2000-14 Warbelow's 2000-18 California Helitech.
Acceptable methods, techniques, and practices | 96-3 America West Airlines.
After certificate revocation | 92-73 Wyatt.
Airworthiness Directive, compliance with | 96-18 Kilrain; 97-9 Alphin.
Approved data for major repairs | 2000-13 Empire Airlines.
Advisory Circular 43.13-1, Not approved data | 2000-13 Empire Airlines.
Not necessarily approved for another aircraft | 2000-13 Empire Airlines.
DER | 2000-13 Empire Airlines.
Inspection | 96-18 Kilrain; 97-10 Alphin; 99-14 Alika Aviation.
Major alterations:
Failed to prove | 99-5 Africa Air.
Major/minor repairs | 96-3 America West Airlines.
Minimum Equipment List (MEL) | 94-38 Bohan; 95-11 Horizon; 97-11 Hampton; 97-21 Delta; 97-30 Emery Worldwide Airlines; 2000-3 Warbelow's;
Operation no maintenance entries | 2000-1 Gatewood; 2000-18 California Helitech.
Repairs between required inspections | 2000-18 California Helitech.
Propellers | 2000-1 Gatewood.
Aircraft Records:
Aircraft Operation | 91-8 Watts Agricultural Aviation; 2000-1 Gatewood.
Flight Duty Time | 96-4 South Aero.
Maintenance Records | 91-8 Watts Agricultural Aviation; 94-2 Woodhouse; 97-30 Emery Worldwide Airlines; 97-31 Sanford Air; 98-18 General Aviation; 2000-1 Gatewood; 2000-3 Warbelow's; 2000-18 California Helitech.
Description of maintenance | 2000-1 Gatewood.
Squawk sheets | 2000-18 California Helitech.
“Yellow tags” | 91-8 Watts Agricultural Aviation.
Aircraft-Weight and Balance (See Weight and Balance)
Airmen:
Airline Transport Pilot certificates requirement in foreign aviation by Part 135 operator | 99-11 Evergreen Helicopters; 2000-12 Evergreen.
Altitude deviation | 92-49 Richardson & Shimp.
Careless or Reckless | 91-12 & 91-31 Terry & Menne; 92-8 Watkins; 92-49 Richardson & Shimp; 92-47 Cornwall; 93-17 Metcalf; 93-29 Sweeney; 96-17 Fenner.
Check airman:
Competency test | 2000-26 Aero National.
Proficiency test | 2000-26 Aero National.
Flight time limitations | 93-11 Merkley.
Flight Time records | 99-7 Premier Jets.
Follow ATC Instruction | 91-12 & 91-31 Terry & Menne; 92-8 Watkins; 92-49 Richardson & Shimp.
Low Flight | 92-47 Cornwall; 93-17 Metcalf.
Owner's responsibility | 96-17 Fenner; 2000-1 Gatewood.
Pilots | 91-12 & 91-31 Terry & Menne; 92-8 Watkins; 92-49 Richardson & Shimp; 93-17 Metcalf.
See and Avoid | 93-29 Sweeney.
Unqualified for Part 135 flight | 99-15 Blue Ridge.
Air Operations Area (AOA):
Air Carrier Responsibilities | 90-19 Continental Airlines; 91-33 Delta Air Lines; 94-1 Delta Air Lines.
Airport Operator Responsibilities | 90-19 Continental Airlines; 91-4 [Airport Operator]; 91-18 [Airport Operator]; 91-40 [Airport Operator]; 91-41 [Airport Operator]; 91-58 [Airport Operator]; 96-1 [Airport Operator]; 98-7 LAX.
Badge Display | 91-4 [Airport Operator; 91-33 Delta Air Lines; 99-1 American Airlines.
Definition of | 90-19 Continental Airlines; 94-1 [Airport Operator]; 91-58 [Airport Operator].
Exclusive Areas | 90-19 Continental Airlines; 91-4 [Airport Operator]; 91-58 [Airport Operator]; 98-7 LAX.
Airport Security Program (ASP):
Compliance with | 91-4 [Airport Operator]; 91-18 [Airport Operator]; 91-40 [Airport Operator]; 91-41 [Airport Operator]; 91-58 [Airport Operator]; 94-1 Delta Air Lines; 96-1 [Airport Operator]; 97-23 Detroit Metropolitan; 98-7 LAX; Airport Operator.
Responsibilities | 90-12 Continental Airlines; 91-4 [Airport Operator]; 91-18 [Airport Operator]; 91-40 [Airport Operator]; 91-41 [Airport Operator]; 91-58 [Airport Operator]; 96-1 [Airport Operator]; 97-23 Detroit Metropolitan.
Air Traffic Control (ATC):
Error as mitigating factor | 91-12 & 91-31 Terry & Menne.
Error as exonerating factor | 91-12 & 91-31 Terry & Menne; 92-40 Wendt.
Ground Control | 91-12 Terry & Menne; 93-18 Westair Commuter.
Local Control | 91-12 Terry & Menne.
Tapes & Transcripts | 91-12 Terry & Menne; 92-49 Richardson & Shimp.
Airworthiness | 91-8 Watts Agricultural Aviation; 92-10 Flight Unlimited; 92-48 & 92-70 USAir; 94-2 Woodhouse; 95-11 Horizon; 96-3 America West Airlines; 96-18 Kilrain; 94-25 USAir; 97-8 Pacific Av. d/b/a Inter-Island Helicopters; 97-9 Alphin; 97-10 Alphin; 97-11 Hampton; 97-21 Delta; 97-30 Emery Worldwide Airlines; 97-32 Florida Propeller; 98-18 General Aviation; 99-14 Alika Aviation; 2000-3 Warbelow's; 2000-13 Empire Airlines; 2000-14 Warbelow's; 2000-18 California Helitech.
Amicus Curiae Briefs | 90-25 Gabbert.
Answer:
Extension of due date for late Answer—good cause required | 95-28 Atlantic World Airways; 97-18 Robinson; 97-33 Rawlings; 98-4 Larry's Flying Service; 2000-29 Stevenson.
Good cause Not shown for late answer | 2000-29 Stevenson.
Reply to each numbered paragraph in complaint required | 98-12 Blankson.
Timeliness of answer | 90-3 Metz; 90-15 Playter; 92-32 Barnhill; 92-47 Cornwall; 92-75 Beck; 92-76 Safety Equipment; 94-5 Grant; 94-29 Sutton; 94-30 Columna; 94-43 Perez; 95-10 Diamond; 95-28 Atlantic World Airways; 97-18 Robinson; 97-19 Missirlian; 97-33 Rawlings; 97-38 Air St. Thomas; 98-4 Larry's Flying Service; 98-13 Air St. Thomas; 99-8 McDermott; 99-9 Lifeflite Medical Air Transport; 99-16 Dorfman; 2000-29 Stevenson.
Timeliness not an issue after hearing | 99-16 Dorfman.
What constitutes | 92-32 Barnhill; 92-75 Beck; 97-19 Missirlian.
What does Not constitute Response to pre-complaint | 92-32 Barnhill; 2000-29 Stevenson.
Appeals (See also Filing; Timeliness; Mailing Rule):
Briefs, Generally | 89-4 Metz; 91-45 Park; 92-17 Giuffrida; 92-19 Cornwall; 92-39 Beck; 93-24 Steel City Aviation; 93-28 Strohl; 94-23 Perez; 95-13 Kilrain.
Additional Brief:
Granted | 93-6 Westair Commuter; 97-22 Sanford Air; 2000-23 Federal Express.
Denied/Struck | 92-3 Park; 93-5 Wendt; 94-4 Northwest Aircraft; 94-18 Luxemburg; 97-34 Continental Airlines; 98-18 General Aviation.
Requested by Decisionmaker | 93-28 Strohl; 94-29 Sutton; 97-38 Air St. Thomas; 99-11 Evergreen Helicopter, 2000-7 Martinez.
Appeal dismissed as premature | 95-19 Rayner.
Appeal dismissed as moot after complaint withdrawn | 92-9 Griffin.
Appellate arguments | 92-70 USAir.
Court of Appeals, appeal to (See Federal Courts)
Good Cause for Late-Filed Brief or Notice of Appeal | 90-3 Metz; 90-27 Gabbert; 90-39 Hart; 91-10 Graham; 91-24 Esau; 91-48 Wendt; 91-50 & 92-1 Costello; 92-3 Park; 92-17 Giuffrida; 92-39 Beck; 92-41 Moore & Sabre Associates; 92-52 Beck; 92-57 Detroit Metro Wayne Co. Airport; 92-69 McCabe; 93-23 Allen; 93-27 Simmons; 93-31 Allen; 95-2 Meronek; 95-9 Woodhouse; 95-25 Conquest, 97-6 WRA Inc.; 97-7 Stalling; 97-28 Continental; 97-38 Air St. Thomas; 98-1 V. Taylor; 98-13 Air St. Thomas; 99-4 Warbelow's Air Ventures; 2000-11 Europex; 2000-21 Martinez.
Informal Conference Conduct of, not on appeal | 99-14 Alika Aviation.
Motion to Vacate construed as a brief | 91-11 Continental Airlines.
Perfecting an Appeal, generally | 92-17 Giuffrida; 92-19 Cornwall; 92-39 Beck; 94-23 Perez; 95-13 Kilrain; 96-5 Alphin Aircraft; 98-20 Koeing.
Extension of Time for (good cause for) | 89-8 Thunderbird Accessories; 91-26 Britt Airea ways; 91-32 Bargen; 91-50 Costello; 93-2 & 93-3 Wendt; 93-24 Steel City Aviation; 93-32 Nunez; 98-5 Squire; 98-15 Squire; 99-3 Justice; 99-4 Warbelow's Air Ventures.
Failure to | 89-1 Gressani; 89-7 Zenkner; 90-11 Thunderbird Accessories; 90-35 P. Adams; 90-39 Hart; 91-7 Pardue; 91-10 Graham; 91-20 Bargen; 91-43, 91-44, 91-46 & 91-47 Delta Air Lines; 92-11 Alilin; 92-15 Dillman; 92-18 Bargen; 92-34 Carrell; 92-35 Bay Land Aviation; 92-36 Southwest Airlines; 92-45 O'Brien; 92-56 Montauk Caribbean Airways; 92-67 USAir; 92-68 Weintraub; 92-78 TWA; 93-7 Dunn; 93-8 Nunez; 93-20 Smith; 93-23 & 93-31 Allen; 93-34 Castle Aviation; 93-35 Steel City Aviation; 94-12 Bartusiak; 94-24 Page; 94-26 French Aircraft; 94-34 American International Airways; 94-35 American International Airways; 94-36 American International Airways; 95-4 Hanson; 95-22 & 96-5 Alphin Aircraft; 96-2 Skydiving Center; 96-13 Winslow; 97-3 [Airport Operator], 97-6 WRA, Inc.; 97-15 Houston & Johnson County; 97-35 Gordon Air Services; 97-36 Avcon; 97-37 Roush; 98-10 Rawlings; 99-2 Oxygen Systems; 2000-9 Tundra Copters; 2000-10 Johnson.
Notice of appeal construed as appeal brief | 92-39 Beck; 94-15 Columna; 95-9 Woodhouse; 95-23 Atlantic World Airways; 96-20 Missirlian; 97-2 Sanford Air; 98-5 Squire; 98-17 Blue Ridge; 98-23 Instead Balloon Services; 99-3 Justice; 99-8 McDermott; 2000-7 Martinez.
What Constitutes | 90-4 Metz; 90-27 Gabbert; 91-45 Park; 92-7 West; 91-17 Giuffrida; 92-39 Beck; 93-7 Dunn; 94-15 Columna; 94-23 Perez; 94-30 Columna; 95-9 Woodhouse; 95-23 Atlantic World Airways; 96-20 Missirlian; 97-2 Sanford Air.
Service of brief:
Fail to serve other party | 92-17 Giuffrida; 92-19 Cornwall.
Timeless of Notice of Appeal | 90-3 Metz; 90-39 Hart; 91-50 Costello; 92-7 West; 92-69 McCabe; 93-27 Simmons; 95-2 Meronek; 95-9 Woodhouse; 95-15 Alphin Aviation; 96-14 Midtown Neon Sign Corp.; 97-7 & 97-17 Stallings; 97-28 Continental; 97-38 Air St. Thomas; 98-1 V. Taylor; 98-13 Air St. Thomas; 98-16 Blue Ridge; 98-17 Blue Ridge; 98-21 Blankson.
Withdrawal of | 89-2 Lincoln-Wakler; 89-3 Sittko; 90-4 Nordrum; 90-5 Sussman; 90-6 Dabaghian; 90-7 Steele; 90-8 Jenkins; 90-9 Van Zandt; 90-13 O'Dell; 90-14 Miller; 90-28 Puleo; 90-29 Sealander; 90-30 Steidinger; 90-34 D. Adams; 90-40 & 90-41 Westair Commuter Airlines; 91-1 Nestor; 91-5 Jones; 91-6 Lowery; 91-13 Kreamer; 91-14 Swanton; 91-15 Knipe; 91-16 Lopez; 91-19 Bayer; 91-21 Britt Airways; 91-22 Omega Silicone Co.; 91-23 Continental Airlines; 91-25 Sanders; 91-27 Delta Air Lines; 91-28 Continental Airlines; 91-29 Smith; 91-34 GASPRO; 91-35 M. Graham; 91-36; Howard; 91-37 Vereen; 91-39 America West; 91-42 Pony Express; 91-49 Shields; 91-56 Mayhan; 91-57 Britt Airways; 91-59 Griffin; 91-60 Brinton; 92-2 Koller; 92-4 Delta Air Lines; 92-6 Rothegeb; 92-12 Bertetto; 92-20 Delta Air Lines; 92-21 Cronberg; 92-22, 92-23 92-24, 92-25, 92-26 & 92-28 Delta Air Lines; 92-33 Port Authority of NY & NJ; 92-42 Jayson; 92-43 Delta Air Lines; 92-44 Owens; 92-53 Humble; 92-54 & 92-55 Northwest Airlines; 92-60 Costello; 92-61 Romerdahl; 92-62 USAir; 92-63 Schaefer; 92-64 & 92-65 Delta Air Lines; 92-66 Sabre Associates & Moore; 92-79 Delta Air Lines; 93-1 Powell & Co.; 93-4 Harrah; 93-14 Fenske; 93-15 Brown; 93-21 Delta Air Lines; 93-22 Yannotone; 93-26 Delta Air Lines; 93-33 HPH Aviation; 94-9 B & G Instruments; 94-10 Boyle; 94-11 Pan American Airways; 94-13 Boyle; 94-14 B & G Instruments; 94-16 Ford; 94-33 Trans World Airlines; 94-41 Dewey Towner; 94-42 Taylor; 95-1 Diamond Aviation; 95-3 Delta Air Lines; 95-5 Araya; 95-6 Sutton; 95-7 Empire Airlines; 95-20 USAir; 95-21 Faisca; 95-24 Delta Air Lines; 96-7 Delta Air Lines; 96-8 Empire Airlines; 96-10 USAir, 96-11 USAir, 96-12 USAir; 96-21 Houseal; 97-4 [Airport Operator]; 97-5 WestAir; 97-25 Martin & Jaworski; 97-26 Delta Air Lines; 97-27 Lock haven; 97-39 Delta Air Lines; 98-9 Continental Express; 2000-8 USA Jet Airlines; 2000-15 Everson d/b/a North Valley Helicopters; 2000-22 Meyer; 2000 24 SONICO.
Assault (See also Battery, and Passenger Misconduct) | 96-6 Ignatov; 97-12 Mayer; 99-16 Dorfman; 2000-17 Gotbetter.
“Attempt” | 89-5 Schultz.
Attorney Conduct: Obstreperous or Disruptive | 94-39 Kirola.
Attorney Fees (See EAJA)
Aviation Safety Reporting System | 90-39 Hart; 91-12 Terry & Menne; 92-49 Richardson & Shimp.
Baggage Matching | 98-6 Continental; 99-12 TWA.
Balloon (Hot Air) | 94-2 Woodhouse.
Bankruptcy | 91-2 Continental Airlines.
Battery (See also Assault and Passenger Misconduct) | 96-6 Ignatov; 97-12 Mayer; 99-16 Dorfman; 2000-17 Gotbetter.
Certificates and Authorizations:
Need for sanction despite surrender | 2000-28 Lifeflite.
Surrender when revoked | 92-73 Wyatt.
Check Airman: Proficiency and competence tests | 2000-26 Aero National.
Civil Air Security National Airport Inspection Program (CASNAIP) | 91-4 [Airport Operator]; 91-18 [Airport Operator]; 91-40 [Airport Operator]; 91-41 [Airport Operator]; 91-58 [Airport Operator].
Civil Penalty amount (See Sanction)
Closing Argument (See Final Oral Argument)
Collateral Estoppel | 91-8 Watts Agricultural Aviation.
Complaint:
Complainant Bound By | 90-10 Webb; 91-53 Koller.
No Timely Answer to (See Answer)
Partial Dismissal/Full Sanction | 94-19 Pony Express; 94-40 Polynesian Airways.
Staleness (See Stale Complaint Rule)
Statute of Limitations (See Statute of Limitations)
Timeliness of complaint | 91-51 Hagwood; 93-13 Medel; 94-7 Hereth; 94-5 Grant.
Withdrawal of | 94-39 Kirola; 92-9 Griffin; 95-6 Sutton; 2000-24 SONICO.
Compliance & Enforcement Program:
(FAA Order No. 2150.3A) | 89-5 Schultz; 89-6 American Airlines; 91-38 Easu; 92-5 Delta Air Lines.
Compliance/Enforcement Bulletin 92-3 | 96-19 [Air Carrier].
Sanction Guidance Table | 89-5 Schulta; 90-23 Broyles; 90-33 Cato; 90-37 Northwest Airlines; 91-3 Lewis; 92-5 Delta Air Lines; 98-18 General Aviation; 2000-3 Warbelow's.
Concealment of Weapons (See Weapons Violations)
Consolidation of Cases | 90-12, 90-18 & 90-19 Continental Airlines
Constitutionality of Regulations (See also Double Jeopardy) | 90-12 Continental Airlines; 90-18 Continental Airlines; 90-19 Continental Airlines; 90-37 Northwest Airlines; 96-1 [Airport Operator]; 96-25 USAir; 97-16 Mauna Kea; 97-34 Continental Airlines; 98-6 Continental Airlines; 98-11 TWA; 99-1 American; 99-12 TWA; 2000-19 Horner.
Continuance of Hearing | 90-25 Gabbert; 92-29 Haggland.
Corrective Action (See Sanction)
Counsel:
Leave to withdraw | 97-24 Gordon.
No right to assigned counsel (See Due Process)
Sanctions against | 2000-17 Gotbetter.
Credibility of Witnesses:
Generally | 92-25 Conquest Helicopters; 95-26 Hereth; 97-32 Florida Propeller.
Bias | 97-9 Alphin; 2000-18 Gotbetter.
Defer to ALJ determination of | 90-21 Carroll; 92-3 Park; 93-17 Metcalf; 95-26 Hereth; 97-20 Werle; 97-30 Emery Worldwide Airlines; 97-32 Florida Propeller; 98-11 TWA; 98-18 General Aviation; 99-6 Squire; 2000-3 Warbelow's; 2000-14 Warbelow's; 2000-17 Gotbetter.
Experts (see also Witness) | 90-27 Gabbert; 93-17 Metcalf; 96-3 America West Airlines.
Eyewitness identification:
Reliability of | 97-20 Werle.
Impeachment | 94-4 Northwest Aircraft Rental.
De facto answer | 92-32 Barnhill.
Delay in initiating action | 90-21 Carroll.
Deliberative Process Privilege (See also Discovery) | 89-6 American Airlines; 90-12, 90-18 & 90-19 Continental Airlines.
Deterrence (See also Sanction) | 89-5 Schultz; 92-10 Flight Unlimited; 95-16 Mulhall; 95-17 Larry's Flying Service; 97-11 Hampton.
Discovery:
Deliberative Process Privilege (See also Discovery) | 89-6 American Airlines; 90-12, 90-18 & 90-19 Continental Airlines.
Depositions, generally | 91-54 Alaska Airlines.
Notice of deposition | 91-54 Alaska Airlines.
Evidence list
Not duty to provide if not requested | 2000-19 Horner.
Failure to produce | 90-18 & 90-19 Continental Airlines; 91-17 KDS Aviation; 93-10 Costello.
Sanction for | 91-17 KDS Aviation; 91-54 Alaska Airlines.
Regarding Unrelated Case | 92-46 Sutton-Sautter.
Double Jeopardy | 95-8 Charter Airlines; 96-26 Midtown.
Due Process:
Generally | 89-6 American Airlines; 90-12 Continental Airlines; 90-37 Northwest Airlines; 96-1 [Airport Operator]; 97-8 Pacific Av. d/b/a Inter-Island Helicopters; 99-12 TWA.
Before finding a violation | 90-27 Gabbert.
Multiple violations | 96-26 Midtown, 97-9 Alphin.
No right to assigned counsel | 97-8 Pacific Av. d/b/a Inter-Island Helicopters; 97-9 Alphin; 99-6 Squire.
Violation of | 89-6 American Airlines; 90-12 Continental Airlines; 90-37 Northwest Airlines; 96-1 [Airport Operator]; 97-8 Pacific Av. d/b/a Inter-Island Helicopters; 98-19 Martin & Jaworski.
EAJA:
Adversary Adjudication | 90-17 Wilson; 91-17 & 91-52 KDS Aviation; 94-17 TCI; 95-12 Toyota.
Amount of award | 95-27 Valley Air.
Appeal from ALJ decision | 95-9 Woodhouse.
Expert witness fees | 95-27 Valley Air.
Final disposition | 96-22 Woodhouse.
Further proceedings | 91-52 KDS Aviation.
Jurisdiction over appeal | 92-74 Wendt; 96-22 Woodhouse.
Late-filed application | 96-22 Woodhouse.
Other expenses | 93-29 Sweeney.
Position of agency | 95-27 Valley Air.
Prevailing party | 91-52 KDS Aviation.
Special circumstances | 95-18 Pacific Sky.
Substantial justification | 91-52 & 92-71 KDS Aviation; 93-9 Wendt; 95-18 Pacific Sky; 95-27 Valley Air; 96-15 Valley Air; 98-19 Martin & Jaworski.
Supplementation of application | 95-27 Valley Air.
Evidence (See Proof & Evidence)
Ex Parte Communications | 93-10 Costello; 95-16 Mullhall; 95-19 Rayner.
Expert Witnesses (See Witness)
Extension of Time (See also Answer):
By Agreement of Parties | 89-6 American Airlines; 92-41 Moore & Sabre Associates.
Dismissal by Decisionmaker | 89-7 Zenkner; 90-39 Hart.
Good Cause for | 89-8 Thunderbird Accessories.
Objection to | 89-8 Thunderbird Accessories; 93-3 Wendt.
Who may grant | 90-27 Gabbert.
Federal Courts | 92-7 West; 97-1 Midtown Neon Sign; 98-8 Carr; 99-12 TWA.
Hazardous materials case appeals | 97-1 Midtown Neon Sign; 98-8 Carr; 2004-4 Ryan International.
Federal Rules of Civil Procedure | 91-17 KDS Aviation.
Federal Rules of Evidence (See also Proof & Evidence):
Admissions | 96-25 USAir, 99-5 Africa Air; 99-14 Alika Aviation.
Evidentiary admissions are rebuttable | 99-5 Africa Air.
Settlement Offers (Rule 408) | 95-16 Mulhall; 95-25 USAir; 99-5 Africa Air.
Exclusion of admissions in settlements offers | 99-5 Africa Air; 99-14 Alika Aviation.
Statements against interest | 2000-3 Warbelow's.
Subsequent Remedial Measures | 96-24 Horizon; 96-25 USAir.
Final Oral Argument | 92-3 Park.
Firearms (See Weapons)
Ferry Flights | 95-8 Charter Airlines.
Filing (See also Appeals; Timeliness):
Burden to prove date of filing | 97-11 Hampton Air; 98-1 V. Taylor.
Discrepancy between certificate of service and postmark | 98-16 Blue Ridge.
Service on designated representative | 98-19 Martin & Jaworski.
Flight & Duty Time:
Circumstances beyond crew's control:
Generally | 95-8 Charter Airlines.
Foreseeabilty | 95-8 Charter Airlines.
Late freight | 95-8 Charter Airlines.
Weather | 95-8 Charter Airlines.
Competency check flights | 96-4 South Aero.
Limitation of Duty Time | 95-8 Charter Airlines; 96-4 South Aero.
Limitation of Flight Time | 95-8 Charter Airlines.
“Other commercial flying” | 95-8 Charter Airlines.
Recordkeeping:
Individual flight time records for each Part 135 pilot | 99-7 Premier Jets.
Flights | 94-20 Conquest Helicopters.
Freedom of Information Act | 93-10 Costello.
Fuel Exhaustion | 95-26 Hereth.
Guns (See Weapons):
Ground Security Coordinator, (See also Air Carrier; Standard Security Program): Failure to provide | 96-16 WestAir Commuter.
“Guilt by association” | 2000-17 Gotbetter.
Hazardous Materials:
Generally | 90-37 Northwest Airlines; 92-76 Safety Equipment; 92-77 TCI: 94-19 Pony Express; 94-28 Toyota; 94-31 Smalling; 95-12 Toyota; 95-16 Mulhall; 96-26 Midtown; 2000-20 & 2000-27 Phillips Building Supply; 2000-25 Riverdale Mills.
Civil Penalty, generally | 92-77 TCI; 94-28 Toyota; 94-31 Smalling; 95-16 Mulhall; 96-26 Midtown; 98-2 Carr; 2000-20 & 2000-27 Phillips Building Supply.
Corrective Action | 92-77 TCI; 94-28 Toyota; 2000-20 Phillips Building Supply.
Culpability | 92-77 TCI; 94-28 Toyota; 94-31 Smalling; 2000-27 Phillips Building Supply.
Financial hardship | 95-16 Mulhall.
Installment plan | 95-16 Mulhall.
First-time violation | 92-77 TCI; 94-28 Toyota; 94-31 Smalling; 2000-20 Phillips Building Supply.
Gravity of violation | 92-77 TCI; 94-28 Toyota; 94-31 Smalling; 96-26 Midtown; 98-2 Carr; 2000-20 Phillips Building Supply.
Minimum penalty | 95-16 Mulhall; 98-2 Carr.
Number of violations | 95-16 Mulhall; 96-26 Midtown Neon Sign; 98-2 Carr; 2000-20 Phillips Building Supply.
Redundant violations | 95-16 Mulhall; 96-26 Midtown Neon Sign; 98-2 Carr.
Criminal Penalty | 92-77 TCI; 94-31 Smalling.
EAJA, applicability of | 94-17 TCI; 95-12 Toyota.
Individual violations | 95-16 Mulhall.
Judicial review under 49 U.S.C. 5123 | 97-1 Midtown Neon Sign; 98-8 Carr; 2000-4 Ryan International.
Knowingly | 92-77 TCI; 94-19 Pony Express; 94-31 Smalling.
Remand to ALJ | 2000-25 Riverdale Mills.
Shipping name contested | 2000-25 Riverdale Mills.
Specific hazard class transported:
Combustible Paint | 95-16 Mulhall.
Corrosive:
Wet Battery | 94-28 Toyota Motor Sales.
Other | 92-77 TCI.
Explosive Fireworks | 94-31 Smalling; 98-2 Carr.
Flammable Paint | 96-26 Midtown Neon Sign.
Proper shipping name contested | 2000-25 Riverdale Mills.
Turpentine | 95-16 Mulhall.
Noxious Fumes | 2000-20 Phillips Building Supply.
Radioactive | 94-19 Pony Express.
Hearing:
Failure of party to attend | 98-23 Instead Balloon Services.
Informal Conference | 94-4 Northwest Aircraft Rental.
Initial Decision:
What constitutes | 92-32 Barnhill.
Motion to vacate denied | 2000-24 SONICO.
Interference with crewmembers (See also Passenger Misconduct; Assault) | 92-3 Park; 96-6 Ignatov; 97-12 Mayer; 98-11 TWA; 98-12 Stout; 2000-17 Gotbetter.
Interlocutory Appeal | 89-6 American Airlines; 91-54 Alaska Airlines; 93-37 Airspect; 94-32 Detroit Metropolitan; 98-25 Gotbetter.
Internal FAA Policy &/or Procedures | 89-6 American Airlines; 90-12 Continental Airlines; 92-73 Wyatt.
Jurisdiction:
After initial decision | 90-20 Degenhardt; 90-33 Cato; 92-32 Barnhill; 93-28 Strohl.
After Order Assessing Civil Penalty | 94-37 Houston; 95-19 Rayner.
After withdrawal of complaint | 94-39 Kirola.
$50,000 Limit | 90-12 Continental Airlines.
EAJA cases | 92-74 Wendt; 96-22 Woodhouse.
HazMat cases | 92-76 Safety Equipment.
NTSB | 90-11 Thunderbird Accessories.
Statutory authority to regulate flights entirely outside of U.S. questioned | 99-11 Evergreen Helicopters; 2000-12 Evergreen.
Knowledge of concealed weapon (See also Weapons Violation) | 89-5 Schultz; 90-20 Degenhardt.
Laches (See Delay in initiating action):
Mailing Rule, generally | 89-7 Zenkner; 90-3 Metz; 90-11 Thunderbird Accessories; 90-39 Hart; 98-20 Koenig.
Does not extend time for filing a request for hearing | 2000-2 Ryan International.
Overnight express delivery | 89-6 American Airlines.
Maintenance (See Aircraft Maintenance):
Maintenance Instruction | 93-36 Valley Air.
Maintenance Manual | 90-11 Thunderbird Accessories; 96-25 US Air.
Air carrier maintenance manual | 96-3 America West Airlines.
Approved/accepted repairs | 96-3 America West Airlines; 2000-13 Empire Airlines.
Manufacturer's maintenance manual | 96-3 America West Airlines; 97-31 Sanford Air; 97-32 Florida Propeller; 2000-3 Warbelow's; 2000-13 Empire Airlines.
Minimum Equipment List (MEL) (See Aircraft Maintenance):
Motion to Dismiss:
Burden of proof | 200-28 Lifeflite.
Standard | 2000-25 Riverdale Mills.
Mootness, appeal dismissed as moot | 92-9 Griffin; 94-17 TCI.
National Aviation Safety Inspection Program (NASIP) | 90-16 Rocky Mountain
National Transportation Safety Board:
Administrator not bound by NTSB case law | 91-12 Terry & Menne; 92-49 Richardson & Shimp; 93-18 Westair Commuter.
Lack of Jurisdiction | 90-11 Thunderbird Accessories; 90-17 Wilson; 92-74 Wendt.
Notice of Hearing: Receipt | 92-31 Eaddy.
Notice of Proposed Civil Penalty:
Initiates Action | 91-9 Continental Airlines.
Signature of agency attorney | 93-12 Langton.
Withdrawal of | 90-17 Wilson.
Operate, generally | 91-12 & 91-31 Terry & Menne; 93-18 Westair Commuter; 96-17 Fenner.
Responsibility of aircraft owner/operator for actions of pilot | 96-17 Fenner; 2000-1 Gatewood.
Responsibility of aircraft owner/operator for employee's flying unairworthy aircraft | 2000-1 Gatewood.
Oral Argument before Administrator on appeal:
Decision to hold | 92-16 Wendt.
Instructions for | 92-27 Wendt.
Order Assessing Civil Penalty:
Appeal from | 92-1 Costello; 95-19 Rayner.
Timeliness of request for hearing | 95-19 Rayner.
Withdrawal of | 89-4 Metz; 90-16 Rocky Mountain; 90-22 USAir; 95-19 Rayner; 97-7 Stalling.
Parachuting | 98-3 Fedele
Parts Manufacturer Approval (PMA) Failure to obtain | 93-19 Pacific Sky Supply.
Passenger List | 99-13 Falcon Air Express.
Passenger Misconduct | 92-3 Park.
Alcoholic beverages | 2000-29 Stevenson.
Assault/Battery | 96-6 Ignatov; 97-12 Mayer; 98-11 TWA; 99-16 Dorfman.
Compliance with Fasten Seat Belt Sign | 99-16 Alika Aviation.
Interference with a crewmember | 96-6 Ignatov; 97-12 Mayer; 98-11 TWA; 98-12 Stout; 99-16 Dorfman; 2000-29 Stevenson.
Smoking | 92-37 Giuffrida; 99-6 Squire Claimed unable to hear “No Smoking” instruction; 99-6 Squire.
Stowing carry-on items | 97-12 Mayer; 99-16.
Penalty (See Sanction; Hazardous Materials):
Person | 93-18 Westair Commuter.
Prima Facie Case (See also Proof & Evidence) | 95-26 Hereth; 96-3 America West Airlines.
Proof & Evidence (See also Federal Rules of Evidence):
Admissions | 99-5 Africa Air; 2000-3 Warbelow's.
Evidentiary admission is rebuttable | 99-5 Africa Air.
Affirmative Defense | 92-13 Delta Air Lines; 92-72 Giuffrida; 98-6 Continental Airlines.
Burden of Proof | 90-26 & 90-43 Waddell; 91-3 Lewis; 91-30 Trujillo; 92-13 Delta Air Lines; 92-72 Giuffrida; 93-29 Sweeney; 97-32 Florida Propeller; 2000-3 Warbelow's.
Circumstantial Evidence | 90-12, 90-19 & 91-9 Continental Airlines; 93-29 Sweeney; 96-3 America West Airlines; 97-10 Alphin; 97-11 Hampton; 97-32 Florida Propeller; 98-6 Continental Airlines.
Credibility (See Administrative Law Judges; Credibility of Witnesses):
Criminal standard rejected | 91-12 Terry & Menne; 2000-3 Warbelow's.
Closing Arguments (See also Final Oral Argument) | 94-20 Conquest Helicopters.
Extra-record material | 95-26 Hereth; 96-24 Horizon.
Hearsay | 92-72 Giuffrida; 97-30 Emery Worldwide Airlines; 98-11 TWA.
Motion to dismiss | 2000-25 Riverdale Mills; 2000-28 Lifeflite.
New evidence 94-4 Northwest Aircraft Rental; 96-23 Kilrain; 99-15 blue Ridge
Offer of Proof | 97-32 Florida Propeller.
Preponderance of evidence | 90-11 Thunderbird Accessories; 90-12 Continental Airlines; 91-12 & 91-31 Terry & Menne; 92-72 Giuffrida; 97-30 Emery Worldwide Airlines; 97-31 Sanford Air; 97-32 Florida Propeller; 98-3 Fedele; 98-6 Continental Airlines; 98-11 TWA.
Presumption that message on ATC tape is received as transmitted | 91-12 Terry & Menne; 92-49 Richardson & Shimp.
Presumption that a gun is deadly or dangerous | 90-26 Waddell; 92-30 Trujillo.
Presumption that owner gave pilot permission | 96-17 Fenner.
Prima facie case | 95-26 Hereth, 96-3 America West; 98-6 Continental Airlines.
Settlement offer | 95-16 Mulhall; 96-25 USAir; 99-5 Africa Air.
Admission as part of settlement offer excluded | 99-5 Africa Air; 99-14 Alika Aviation.
Subsequent remedial measures | 96-24 Horizon; 96-25 USAir.
Substantial evidence | 92-72 Giuffrida Pro Se Parties.
Special Considerations | 90-11 Thunderbird Accessories; 90-3 Metz; 95-25 Conquest.
Prosecutorial discretion | 89-6 American Airlines; 90-23 Broyles; 90-38 Continental Airlines; 91-41 [Airport Operator]; 92-46 Sutton-Sautter; 92-73 Wyatt; 95-17 Larry's Flying Service.
Administrator does not review Complainant's decision not to bring action against anyone but respondent | 98-2 Carr.
Reconsideration;
Denied by ALJ | 89-4 90-3 Metz.
Denied by Administrator | 2000-5 Blue Ridge; 2000-14 and 2000-16 Warbelow's; 2000-27 Phillips Building Supply.
Granted by ALJ | 92-32 Barnhill.
Late request for | 97-14 Pacific Aviation; 98-14 Larry's Flying Service; 2000-5 Blue Ridge.
Petition based on new material | 96-23 Kilrain; 2000-14 Warbelow's.
Repetitious petitions | 96-9 [Airport Operator]; 2000-5 Blue Ridge; 2000-14 Warbelow's; 2000-16 Warbelow's.
Stay of order pending | 90-31 Carroll; 90-32 Continental Airlines; 2000-14 Warbelow's.
Redundancy, enhancing safety | 97-11 Hampton.
Remand | 89-6 American Airlines; 90-16 Rocky Mountain; 90-24 Bayer; 91-51 Hagwood; 91-54 Alaska Airlines; 92-1 Costello; 92-76 Safety Equipment; 94-37 Houston; 2000-5 Blue Ridge; 2000-25 Riverdale Mills; 2000-28 Lifeflite.
Repair Station | 90-11 Thunderbird Accessories; 92-10 Flight Unlimited; 94-2 Woodhouse; 97-9 Alphin; 97-10 Alphin; 97-31 Sanford Air; 97-32 Florida Propeller; 2000-1 Gatewood.
Request for Hearing | 94-37 Houston; 95-19 Rayner.
Constructive withdrawal of | 97-7 Stalling; 98-23 Instead Balloon Services.
Timeliness of request | 93-12 Langton; 95-19 Rayner; 2000-2 Ryan International.
Untimely request for hearing will be excused for good cause | 94-27 Larsen; 93-12 Langton; 2000-2 Ryan International.
Rules of Practice (14 CFR Part 13, Subpart G):
Applicability of | 90-12, 90-18 & 90-19 Continental Airlines; 91-17 KDS Aviation.
Challenges to | 90-12, 90-18 and 90-19 Continental Airlines; 90-21 Carroll; 90-37 Northwest Airlines.
Effect of Changes in | 90-21 Carroll; 90-22 USAir; 90-38 Continental Airlines.
Initiation of Action | 91-9 Continental Airlines.
Runway incursions | 92-40 Wendt; 93-18 Westair Commuter Sanction.
Ability to Pay | 89-5 Schultz; 90-10 Webb; 91-3 Lewis; 91-38 Esau; 92-10 Flight Unlimited; 92-32 Barnhill; 92-37 & 92-72 Giuffrida; 92-38 Cronberg; 92-46 Sutton-Sautter; 92-51 Koblick; 93-10 Costello; 94-4 Northwest Aircraft Rental; 94-20 Conquest Helicopters; 95-16 Mulhall; 95-17 Larry's Flying Service; 97-8 Pacific Av. d/b/a/ Inter-Island Helicopters; 97-11 Hampton; 97-16 Mauna Kea; 98-4 Larry's Flying Service; 98-11 TWA; 99-12 TWA; 99-15 Blue Ridge; 2000-3 Warbelow's; 2000-28 Lifeflite.
Agency policy:
ALJ bound by | 90-37 Northwest Airlines; 92-46 Sutton-Sautter; 96-19 [Air Carrier]; 2000-3 Warbelow's.
Changes after complaint | 97-7 & 97-17 Stallings.
Statements of (e.g., FAA Order 2150.3A, Sanction Guidance Table, memoranda pertaining to) | 90-19 Continental Airlines; 90-23 Broyles; 90-33 Cato; 90-37 Northwest Airlines; 92-46 Sutton-Sautter; 96-4 South Aero; 96-19 [Air Carrier]; 96-25 USAir.
Community Service | 2000-21 Martinez.
Compliance Disposition | 97-23 Detroit Metropolitan.
Consistency with Precedent | 96-6 Ignatov; 96-26 Midtown; 97-30 Emery Worldwide Airlines; 98-12 Stout; 98-18 General Aviation.
But when precedent is based on superceded sanction policy | 96-19 [Air Carrier].
Corrective Action | 91-18 [Airport Operator]; 91-40 [Airport Operator]; 91-41 [Airport Operator]; 92-5 Delta Air Lines; 93-18 Westair Commuter; 94-28 Toyota; 96-4 South Aero; 96-19 [Air Carrier]; 97-16 Mauna Kea; 97-23 Detroit Metropolitan; 98-6 Continental Airlines; 98-22 Northwest Airlines; 99-12 TWA; 99-14 Alika Aviation; 2000-20 Phillips Building Supply.
Discovery (See Discovery).
Factors to consider | 89-5 Schultz; 90-23 Broyles; 90-37 Northwest Airlines; 91-3 Lewis; 91-18 [Airport Operator]; 91-40 [Airport Operator]; 91-41 [Airport Operator]; 92-10 Flight Unlimited; 92-46 Sutton-Sautter; 92-51 Koblick; 94-28 Toyota; 95-11 Horizon; 96-19 [Air Carrier]; 96-26 Midtown; 97-16 Mauna Kea; 98-2 Carr; 99-15 Blue Ridge; 2000-3 Warbelow's.
First-Time Offenders | 89-5 Schultz; 92-5 Delta Air Lines; 92-51 Koblick.
HazMat (See Hazardous Materials).
Inexperience | 92-10 Flight Unlimited.
Installment Payments | 95-16 Mulhall; 95-17 Larry's Flying Service.
Maintenance | 95-11 Horizon; 96-3 America West Airlines; 97-8 Pacific Av. d/b/a Inter-Island Helicopters; 97-9 Alphin; 97-10 Alphin; 97-11 Hampton; 97-30 Emery Worldwide Airlines; 99-14 Alika Aviation; 2000-3 Warbelow's.
Maximum | 90-10 Webb; 91-53 Koller; 96-19 [Air Carrier].
Minimum (HazMat) | 95-16 Mulhall; 96-26 Midtown; 98-2 Carr.
Modified | 89-5 Schultz; 90-11 Thunderbird Accessories; 91-38 Esau; 92-10 Flight Unlimited; 92-13 Delta Air Lines; 92-32 Barnhill.
Partial Dismissal of Complaint/Full Sanction (See also Complaint) | 94-19 Pony Express; 94-40 Polynesian Airways.
Sanctions in specific cases:
Failed to comply with Security Directives | 98-6 Continental Airlines; 99-12 TWA.
Passenger/bag match | 98-6 Continental Airlines; 99-12 TWA.
Passenger misconduct | 97-12 Mayer; 98-12 Stout; 2000-17 Gotbetter.
Person evading screening (See also Screening) | 97-20 Werle; 2000-19 Horner.
Pilot Deviation | 92-8 Watkins.
Test object detection | 90-18 & 90-19 Continental Airlines; 96-19 [Air Carrier].
Unairworthy aircraft | 97-8 Pacific Av. d/b/a Inter-Island Helicopters; 97-9 Alphin; 98-18 General Aviation; 99-14 Alika Aviation; 2000-3 Warbelow's.
Unauthorized access | 90-19 Continental Airlines; 90-37 Northwest Airlines; 94-1 Delta Air Lines; 98-7 LAX.
Unqualified pilot | 99-15 Blue Ridge.
Weapons violations | 90-23 Broyles; 90-33 Cato; 91-3 Lewis; 91-38 Esau; 92-32 Barnhill; 92-46 Sutton-Sautter; 92-51 Koblick; 94-5 Grant; 97-7 & 97-17 Stallings.
Surrender of certificate (See also Certificates and Authorizations) | 2000-28 Lifeflite.
Screening of Persons and Carry-on Items (See also Test Object Detection):
Air carrier failure to detect weapon Sanction | 94-44 American Airlines.
Air carrier failure to match bag with passenger | 98-6 Continental Airlines; 99-12 TWA.
Carry-on item from person passenger does not know | 2000-6 Atlantic Coast Aviation.
Entering sterile areas | 90-24 Bayer; 92-58 Hoedl; 97-20 Werle; 98-20 Koenig; 2000-19 Horner.
Sanction for evading screening (See also Sanction) | 97-20 Werle; 98-20 Koenig; 2000-19 Horner.
Security (See also Screening of Persons and Carry-on Items; Standard Security Program; Test Object Detection; Unauthorized Access; Weapons Violations:
Agency directives, violations of | 99-12 TWA.
False information about carrying weapon or explosive | 98-24 Stevens.
Sealing of Record | 97-13 Westair Commuter; 97-28 Continental Airlines.
Separation of Functions | 90-12 Continental Airlines; 90-18 Continental Airlines; 90-19 Continental Airlines; 90-21 Carroll; 90-38 Continental Airlines; 93-13 Medel.
Service (See also Mailing Rule; Receipt):
Of NPCP | 90-22 USAir; 97-20 Werle.
Of FNPCP | 93-13 Medel.
Receipt of document sent by mail | 92-31 Eaddy; 2000-5 Blue Ridge.
Return of certified mail | 97-7 & 97-17 Stallings; 2000-5 Blue Ridge.
Valid Service | 92-18 Bargen; 98-19 Martin & Jaworski.
When no certificate of service | 2000-2 Ryan International.
Settlement | 91-50 & 92-1 Costello; 95-16 Mulhall; 99-10 Azeteca; 2000-24 SONICO.
Request for hearing not withdrawn | 99-10 Azteca.
Skydiving | 98-3 Fedele.
Smoking | 92-37 Giuffrida; 94-18 Luxemburg; 99-6 Squire.
“Squawk sheets” | 2000-18 California Helitech.
Stale Complaint Rule:
If NPCP not sent | 97-20 Werle.
Standard Security Program (SSP):
Compliance with | 90-12, 90-18 & 90-19 Continental Airlines; 91-33 Delta Air Lines; 91-55 Continental Airlines; 92-13 & 94-1 Delta Air lines; 96-19 [Air Carrier]; 98-22 Northwest Airlines; 99-1 American.
Checkpoint Security Coordinator | 98-22 Northwest Airlines.
Ground Security Coordinator | 96-16 Westair Commuter.
When airline required to have security program | 2000-6 Atlantic Coast Aviation.
Statute of Limitations | 97-20 Werle.
Stay of Orders | 90-31 Carroll; 90-32 Continental Airlines.
Pending judicial review | 95-14 Charter Airlines.
Strict Liability | 89-5 Schultz; 90-27 Gabbert; 91-18 [Airport Operator]; 91-40 [Airport Operator]; 91-58 [Airport Operator]; 97-23 Detroit Metropolitan; 98-7 LAX; 2000-3 Warbelow's.
Test Object Detection | 90-12, 90-18, 90-19, 91-9 & 91-55 Continental Airlines; 92-13 Delta Air Lines; 96-19 [Air Carrier].
Proof of violation | 90-18, 90-19 & 91-9 Continental Airlines; 92-13 Delta Air Lines.
Sanction | 90-18 & 90-19 Continental Airlines; 96-19 [Air Carrier].
Timeliness (See also Complaint; Filing; Mailing Rule; and Appeals):
Burden to prove date of filing | 97-11 Hampton Air; 98-1 V. Taylor.
Of response to NPCP | 90-22 USAir.
Of complaint | 91-51 Hagwood; 93-13 Medel; 94-7 Hereth.
Of initial decision | 97-31 Sanford Air.
Of NPCP | 92-73 Wyatt.
Of petition to reconsider | 2000-5 Blue Ridge.
Of additional brief | 2000-21 Martinez.
Of reply brief | 97-11 Hampton.
Of request for hearing | 93-12 Langton; 95-19 Rayner; 2000-2 Ryan International.
Of EAJA application (See EAJA-Final disposition, EAJA-Jurisdiction)
Unapproved Parts (See also Parts Manufacturer Approval) | 93-19 Pacific Sky Supply.
Unauthorized Access:
To aircraft | 90-12 & 90-19 Continental Airlines; 94-1 Delta Air Lines.
To Air Operations Area (AOA) | 90-37 Northwest Airlines; 91-18 [Airport Operator]; 91-40 [Airport Operator]; 91-58 [Airport Operator]; 94-1 Delta Air Lines.
Vacating Initial Decision | 2000-24 SONICO.
Visual Cues Indicating Runway, Adequacy of | 92-40 Wendt.
Weapons Violations, generally | 89-5 Schulz; 90-10 Webb; 90-20 Degenhardt; 90-23 Broyles; 90-33 Cato; 90-26 & 90-43 Waddell; 91-3 Lewis; 91-30 Trujillo; 91-38 Esau; 91-53 Koller; 92-32 Barnhill; 92-46 Sutton-Sauter; 92-51 Koblick; 92-59 Petek-Jackson; 94-5 Grant; 94-44 American Airlines.
Concealed weapon | 89-5 Schultz; 92-46 Sutton-Sautter, 92-51 Koblick.
“Deadly or Dangerous” | 90-26 & 90-43 Waddell; 91-30 Trujillo; 91-38 Esau.
First-time Offenders | 89-5 Schultz.
Intent to commit violation | 89-5 Schultz; 90-20 Degenhardt; 90-23 Broyles; 90-26 Waddell; 91-3 Lewis; 91-53 Koller.
Knowledge Of Weapon Concealment (See also Knowlede) | 89-5 Schultz; 90-20 Degenhardt.
Sanction (See Sanction)
Weight and Balance | 94-40 Polynesian Airways.
Passenger list | 99-13 Falcon Air Express.
Witnesses (See also Credibility):
Absence of, Failure to subpoena | 92-3 Park; 98-2 Carr.
Expert testimony Evaluation of | 93-17 Metcalf; 94-3 Valley Air; 94-21 Sweeney; 96-3 America West Airlines; 96-15 Valley Air; 97-9 Alphin; 97-32 Florida Propeller.
Expert witness fees (See EAJA)
Sequester order | 2000-18 California Helitech.
Regulations (Title 14 CFR, unless otherwise noted)
1.1(maintenance) | 94-38 Bohan; 97-11 Hampton.
1.1(major alteration) | 99-5 Africa Air.
1.1(major repair) | 96-3 America West Airlines.
1.1(minor repair) | 96-3 America West Airlines.
1.1(operate) | 91-12 91-31 Terry & Menne; 93-18 Westair Commuter; 96-17 Fenner.
1.1(person) | 93-18 Westair Commuter.
1.1(propeller) | 96-15 Valley Air.
3.16 | 90-16 Rocky Mountain; 90-22 USAir; 90-37 Northwest Airlines; 90-38 & 91-9 Continental Airlines; 91-18 [Airport Operator]; 91-51 Hagwood; 92-1 Costello; 92-46 Sutton-Sautter; 93-13 Medel; 93-28 Strohl; 94-27 Larsen; 94-37 Houston; 94-31 Smalling; 95-19 Rayner; 96-26 Midtown Neon Sign; 97-1 Midtown Neon Sign; 97-9 Alphin; 98-18 General Aviation; 2000-2 Ryan International; 2000-3 Warbelow's; 2000-24 SONICO.
13.201 | 90-12 Continental Airlines; 2000-24 SONICO.
13.202 | 90-6 American Airlines; 92-76 Safety Equipment.
13.203 | 90-12 Continental Airlines; 90-21 Carroll; 90-38 Continental Airlines.
13.204 |
13.205 | 90-20 Degenhardt; 91-17 KDS Aviation; 91-54 Alaska Airlines; 92-32 Barnhill; 94-32 Detroit Metropolitan; 94-39 Kirola; 95-16 Mulhall; 97-20 Werle; 2000-17 Gotbetter; 2000-20 Phillips Building Supply.
13.206 |
13.207 | 94-39 Kirola.
13.208 | 90-21 Carroll; 91-51 Hagwood; 92-73 Wyatt; 92-76 Safety Equipment 93-13 Medel; 93-28 Strohl; 94-7 Hereth; 97-20 Werle; 98-4 Larry's.
13.209 | 90-3 Metz; 90-15 Playter; 91-18 [Airport Operator]; 92-32 Barnhill; 92-47 Cornwall; 92-75 Beck; 92-76 Safety Equipment; 94-8 Nunez; 94-5 Grant; 94-22 Harkins; 94-29 Sutton; 94-30 Columna; 95-10 Diamond; 95-28 Atlantic World Airways; 97-7 Stalling; 97-18 Robinson; 97-33 Rawlings; 98-21 Blankson.
13.210 | 92-19 Cornwall; 92-75 Beck; 92-76 Safety Equipment; 93-7 Dunn; 92-28 Strohl; 94-5 Grant; 94-30 Columna; 95-28 Atlantic World Airways; 96-17 Fenner; 97-11 Hampton; 97-18 Robinson; 97-38 Air St. Thomas; 98-16 Blue Ridge.
13.211 | 89-6 American Airlines; 89-7 Zenkner; 90-3 Metz; 90-11 Thunderbird Accessories; 90-39 Hart; 91-24 Esau; 92-1 Costello; 92-9 Griffin; 92-18 Bargen; 92-19 Cornwall; 92-57 Detroit Metro. Wayne County Airport; 92-74 Wendt; 92-76 Safety Equipment; 93-2 Wendt; 94-5 Grant; 94-18 Luxemburg; 94-29 Sutton; 95-12 Toyota; 95-28 Valley Air; 97-7 Stalling; 97-11 Hampton; 98-4 Larry's Flying Service; 98-19 Martin & Jaworski; 98-20 Koenig; 99-2 Oxygen Systems; 2000-2 Ryan International; 2000-5 Blue Ridge.
13.212 | 90-11 Thunderbird Accessories; 91-2 Continental Airlines; 99-2 Oxygen Systems.
13.213 |
13.214 | 91-3 Lewis.
13.215 | 93-28 Strohl; 94-39 Kirola; 2000-24 SONICO.
13.216 |
13.217 | 91-17 KDS Aviation.
13.218 | 89-6 American Airlines; 90-11 Thunderbird Accessories; 90-39 Hart; 92-9 Griffin; 92-73 Wyatt; 93-19 Pacific Sky Supply; 94-6 Strohl; 94-27 Larsen; 94-37 Houston; 95-18 Rayner; 96-16 WestAir; 96-24 Horizon; 98-20 Koenig.
13.219 | 89-6 American Airlines; 91-2 Continental; 91-54 Alaska Airlines; 93-37 Airspect; 94-32 Detroit Metro. Wayne County Airport; 98-25 Gotbetter.
13.220 | 89-6 American Airlines; 90-20 Carroll; 91-8 Watts Agricultural Aviation; 91-17 KDS Aviation; 91-54 Alaska Airlines; 92-46 Sutton-Sautter; Horner 2000-19.
13.221 | 92-29 Haggland; 92-31 Eaddy; 92-52 Cullop.
13.222 | 92-72 Giuffrida; 96-15 Valley Air.
13.223 | 91-12 & 91-31 Terry & Menne; 92-72 Giuffrida; 95-26 Hereth; 96-15 Valley Air; 97-11 Hampton; 97-31 Sanford Air; 97-32 Florida Propeller; 98-3 Fedele; 98-6 Continental Airlines; 2000-3 Warbelow's.
13.224 | 90-26 Waddell; 91-4 [Airport Operator]; 92-72 Giuffrida; 94-18 Luxemburg; 94-28 Toyota; 95-25 Conquest; 96-17 Fenner; 97-32 Florida Propeller; 98-6 Continental Airlines; 2000-3 Warbelow's 2000-20 Phillips Building Supply.
13.225 | 97-32 Florida Propeller.
13.226 |
13.227 | 90-21 Carroll; 95-26 Hereth.
13.228 | 92-3 Park.
13.229 |
13.230 | 92-19 Cornwall; 95-26 Hereth; 96-24 Horizon.
13.231 | 92-3 Park.
13.232 | 89-5 Schultz; 90-20 Degenhardt; 92-1 Costello; 92-18 Bargen; 92-32 Barnhill; 93-28 Strohl; 94-28 Toyota; 95-12 Toyota; 95-16 Mulhall; 96-6 Ignatov; 98-18 General Aviation; 2000-19 Horner.
13.233 | 89-1 Gressani; 89-4 Metz; 89-5 Schultz; 89-7 Zenkner; 89-8 Thunderbird Accessories; 90-3 Metz; 90-11 Thunderbird Accessories; 90-19 Continental Airlines; 90-20 Degenhardt; 90-25 & 90-27 Gabbert; 90-35 P. Adams; 90-19 Continental Airlines; 90-39 Hart; 91-2 Continental Airlines; 91-3 Lewis; 91-7 Pardue; 91-8 Watts Agricultural Aviation; 91-10 Graham; 91-11 Continental Airlines; 91-12 Bargen; 91-24 Esau; 91-26 Britt Airways; 91-31 Terry & Menne; 91-32 Bargen; 91-43 & 91-44 Delta; 91-45 Park; 91-46 Delta; 91-47 Delta; 91-48 Wendt; 91-52 KDS Aviation; 91-53 Koller; 92-1 Costello; 92-3 Park; 92-7 West; 92-11 Alilin; 92-15 Dillman; 92-16 Wendt; 92-18 Bargen; 92-19 Cornwall; 92-27 Wendt; 92-32 Barnhill; 92-34 Carrell; 92-35 Bay Land Aviation; 92-36 Southwest Airlines; 92-39 Beck; 92-45 O'Brien; 92-52 Beck; 92-56 Montauk Caribbean Airways; 92-57 Detroit Metro. Wayne Co. Airport; 92-67 USAir; 92-69 McCabe; 92-72 Giuffrida; 92-74 Wendt; 92-78 TWA; 93-5 Wendt; 93-6 Westair Commuter; 93-7 Dunn; 93-8 Nunez; 93-19 Pacific Sky Supply; 93-23 Allen; 93-27 Simmons; 93-28 Strohl; 93-31 Allen; 93-32 Nunez; 94-9 B & G Instruments; 94-10 Boyle; 94-12 Bartusiak; 94-15 Columna; 94-18 Luxemburg; 94-23 Perez; 94-24 Page; 94-26 French Aircraft; 94-28 Toyota; 95-2 Meronek; 95-9 Woodhouse; 95-13 Kilrain; 95-23 Atlantic World Airways; 95-25 Conquest; 95-26 Hereth; 96-1 [Airport Operator; 96-2 Skydiving Center; 97-1 Midtown Neon Sign; 97-2 Sanford Air; 97-7 Stalling; 97-22 Sanford Air; 97-24 Gordon Air; 97-31 Sanford Air; 97-33 Rawlings; 97-38 Air St. Thomas; 98-4 Larry's Flying Service; 98-3 Fedele; Continental Airlines 98-6; LAX 98-7; 98-10 Rawlings; 98-15 Squire; 98-18 General Aviation; 98-19 Martin & Jaworski; 98-20 Koenig; 99-2 Oxygen Systems; 99-11 Evergreen Helicopters; 2000-23 Federal Express; 2000-24 SONICO.
13.234 | 90-19 Continental Airlines; 90-31 Carroll; 90-32 & 90-38 Continental Airlines; 91-4 [Airport Operator]; 95-12 Toyota; 96-9 [Airport Operator]; 96-23 Kilrain; 2000-5 Blue Ridge; Warbelow's 2000-16.
13.235 | 90-11 Thunderbird Accessories; 90-12 Continental Airlines; 90-15 Playter; 90-17 Wilson; 92-7 West.
Part 14 | 92-74 & 93-2 Wendt; 95-18 Pacific Sky Supply.
14.01 | 91-17 & 92-71 KDS Aviation.
14.04 | 91-17, 91-52 & 92-71 KDS Aviation; 93-10 Costello; 95-27 Valley Air.
14.05 | 90-17 Wilson.
14.12 | 95-27 Valley Air
14.20 | 91-52 KDS Aviation; 96-22 Woodhouse.
14.22 | 93-29 Sweeney.
14.23 | 98-19 Martin & Jaworski.
14.26 | 91-52 KDS Aviation; 95-27 Valley Air.
14.28 | 95-9 Woodhouse.
21.181 | 96-25 USAir.
21.303 | 93-19 Pacific Sky Supply; 95-18 Pacific Sky Supply.
25.787 | 97-30 Emery Worldwide Airlines.
25.855 | 92-37 Giuffrida; 97-30 Emery Worldwide Airlines.
39.3 | 92-10 Flight Unlimited; 94-4 Northwest Aircraft Rental.
43.3 | 92-73 Wyatt; 97-31 Sanford Air; 98-18 General Aviation; 2000-1 Gatewood.
43.5 | 96-18 Kilrain; 97-31 Sanford Air.
43.9 | 91-8 Watts Agricultural Aviation; 97-31 Sanford Air; 98-4 Larry's Flying Service.
43.13 | 90-11 Thunderbird Accessories; 94-3 Valley Air; 94-38 Bohan; 96-3 America West Airlines; 96-25 USAir; 97-9 Alphin; 97-10 Alphin; 97-30 Emery Worlwide Airlines; 97-31 Sanford Air; 97-32 Florida Propeller; 2000-13 Empire Airlines.
43.15 | 90-25 & 90-27 Gabbert; 91-8 Watts Agricultural Aviation; 94-2 Woodhouse; 96-18 Kilrain.
61.3 | 99-11 Evergreen Helicopters; 2000-12 Evergreen.
65.15 | 92-73 Wyatt.
65.81 | 2000-1 Gatewood.
65.92 | 92-73 Wyatt.
91.7 | 97-8 Pacific Av. d/b/a Inter-Island Helicopters; 97-16 Mauna Kea; 98-18 General Aviation; 99-5 Africa Air; 2000-1 Gatewood; 2000-3 Warbelow's; 2000-14 Warbelow's.
91.8 (91.11 as of 8/18/90) | 92-3 Park.
91.9 (91.13 as of 8/18/90) | 90-15 Playter; 91-12 & 91-31 Terry & Menne; 92-8 Watkins; 92-40 Wendt; 92-48 USAir; 92-49 Richardson & Shimp; 92-47 Cornwall; 92-70 USAir; 93-9 Wendt; 93-17 Metcalf; 93-18 Westair Commuter; 93-29 Sweeney; 94-29 Sutton; 95-26 Hereth; 96-17 Fenner.
91.11 | 96-6 Ignatov; 97-12 Mayer; 98-12 Stout; 99-16 Dorfman; 2000-17 Gotbetter.
91.29 (91.7 as of 8/18/90) | 91-8 Watts Agricultural Aviation; 92-10 Flight Unlimited; 94-4 Northwest Aircraft Rental.
91.65 (91.111 as of 8/18/90) | 91-29 Sweeney; 94-21 Sweeney.
91.67 (91.113 as of 8/18/90) | 91-29 Sweeney.
91.71 | 97-11 Hampton.
91.75 (91.123 as of 8/18/90) | 91-12 & 91-31 Terry & Menne; 92-8 Watkins; 92-40 Wendt; 92-49 Richardson & Shimp; 93-9 Wendt.
91.79 (91.119 as of 8/18/90) | 90-15 Playter; 92-47 Cornwall; 93-17 Metcalf.
91.87 (91.129 as of 8/18/90) | 91-12 & 91-31 Terry & Menne; 92-8 Watkins.
91.103 | 95-26 Hereth.
91.111 | 96-17 Fenner.
91.113 | 96-17 Fenner.
91.151 | 95-26 Hereth.
91.173 (91.417 as of 8/18/90) | 91-8 Watts Agricultural Aviation.
91.203 | 99-5 Africa Air.
91.205 | 98-18 General Aviation.
91.213 | 97-11 Hampton.
91.403 | 97-8 Pacific Av. d/b/a Inter-Island Helicopters; 98-31 Sanford Air.
91.405 | 97-16 Mauna Kea; 98-4 Larry's Flying Service; 98-18 General Aviation; 99-5 Africa Air; 2000-1 Gatewood; 2000-18 California Helitech.
91.407 | 98-4 Larry's Flying Service; 99-5 Africa Air; 2000-1 Gatewood.
91.417 | 98-18 General Aviation.
91.517 | 98-12 Stout.
91.703 | 94-29 Sutton.
105.29 | 98-3 Fedele; 98-19 Martin & Jaworski.
107.1 | 90-19 Continental Airlines; 90-20 Degenhardt; 91-4 [Airport Operator]; 91-58 [Airport Operator]; 98-7 LAX; 2000-19 Horner.
107.9 | 98-7 LAX.
107.13 | 90-12 & 90-19 Continental Airlines; 91-4 [Airport Operator]; 91-18 [Airport Operator]; 91-40 [Airport Operator]; 91-41 [Airport Operator]; 91-58 [Airport Operator]; 96-1 [Airport Operator]; 97-23 Detroit Metropolitan; 98-7 LAX.
107.20 | 90-24 Bayer; 92-58 Hoedl; 97-20 Werle; 98-20 Koenig; 2000-19 Horner.
107.21 | 89-5 Schultz, 90-10 Webb; 90-22 Degenhardt; 90-23 Broyles; 90-26 & 90-43 Waddell; 90-33 Cato; 90-39 Hart; 91-3 Lewis; 91-10 Graham; 91-30 Trujillo; 91-38 Esau; 91-53 Koller; 92-32 Barnhill; 92-38 Cronberg; 92-46 Sutton-Sautter; 92-51 Koblick; 92-59 Petek-Jackson; 94-5 Grant; 94-31 Smalling; 97-7 Stalling.
107.25 | 94-30 Columna.
108.5 | 90-12, 90-18, 90-19, 91-2 & 91-9 Continental Airlines; 91-33 Delta Air Lines; 91-54 Alaska Airlines; 91-55 Continental Airlines; 92-13 & 94-1 Delta Air Lines; 94-44 American Airlines; 96-16 WestAir; 96-19 [Air Carrier]; 98-22 Northwest Airlines; 99-1 American; 99-12 TWA; 2000-6 Atlantic Coast Aviation.
108.7 | 90-18 & 90-19 Continental Airlines; 99-1 American.
108.9 | 98-22 Northwest Airlines; 2000-19 Horner.
10810 | 96-16 WestAir.
108.11 | 90-23 Broyles; 90-26 Waddell; 91-3 Lewis; 92-46 Sutton-Sautter; 94-44 American Airlines.
108.13 | 90-12 & 90-19 Continental Airlines; 90-37 Northwest Airlines.
108.18 | 98-6 Continental Airlines; 99-12 TWA; 2000-6 Atlantic Coast Aviation.
121.133 | 90-18 Continental Airlines.
121.153 | 92-48 & 92-70 USAir; 95-11 Horizon; 96-3 America West Airlines; 96-24 Horizon; 96-25 USAir; 97-21 Delta; 97-30 Emery Worlwide Airlines.
121.221 | 97-30 Emery Worldwide Airlines.
121.317 | 92-37 Giuffrida; 94-18 Luxemburg; 99-6 Squire; 99-16 Dorfman.
212.318 | 92-37 Giuffrida.
121.363 | 2000-13 Empire Airlines.
121.367 | 90-12 Continental Airlines; 96-25 USAir.
121.379 | 2000-13 Empire Airlines.
121.571 | 92-37 Giuffrida.
121.575 | 98-11 TWA.
121.577 | 98-11 TWA.
121.589 | 97-12 Mayer.
121.628 | 95-11 Horizon; 97-21 Delta; 97-30 Emery Worldwide Airlines.
121.693 | 99-12 Falcon Air Express.
121.697 | 99-13 Falcon Air Express.
135.1 | 95-8 Charter Airlines; 95-25 Conquest.
135.3 | 99-15 Blue Ridge; 2000-5 Blue Ridge.
135.5 | 94-3 Valley Air; 94-20 Conquest Helicopters; 95-25 Conquest; 95-27 Valley Air; 96-15 Valley Air.
135.25 | 92-10 Flight Unlimited; 94-3 Valley Air; 95-27 Valley Air; 96-15 Valley Air; 2000-3 Warbelow's; 2000-14 Warbelow's.
135.63 | 94-40 Polynesian Airways; 95-17 Larry's Flying Service; 95-28 Atlantic; 96-4 South Aero; 99-7 Premier Jets.
135.87 | 90-21 Carroll.
135.95 | 95-17 Larry's Flying Service; 99-15 Blue Ridge; 2000-5 Blue Ridge.
135.179 | 97-11 Hampton; 2000-3 Warbelow's; 2000-14 Warbelow's.
135.185 | 94-40 Polynesian Airways.
135.234 | 99-15 Blue Ridge; 2000-14 Warbelow's.
135.243 | 99-11 Evergreen Helicopters; 99-15 Blue Ridge; 2000-5 Blue Ridge; 2000-12 Evergreen.
135.263 | 95-9 Charter Airlines; 96-4 South Aero.
135.267 | 95-8 Charter Airlines; 95-17 Larry's Flying Service; 96-4 South Aero.
135.293 | 95-17 Larry's Flying Service; 96-4 South Aero; 99-15 Blue Ridge; 2000-5 Blue Ridge.
135.299 | 99-15 Blue Ridge; 2000-5 Blue Ridge.
135.337 | 2000-26 Aero National.
135.343 | 95-17 Larry's Flying Service; 99-15 Blue Ridge; 2000-5 Blue Ridge.
135.411 | 97-11 Hampton.
135.413 | 94-3 Valley Air; 96-15 Valley Air; 97-8 Pacific Av. d/b/a Inter-Island Helicopters; 97-16 Mauna Kea; 99-14 Alika Aviation.
135.421 | 93-36 Valley Air; 94-3 Valley Air; 96-15 Valley Air; 99-14 Alika Aviation.
135.437 | 94-3 Valley Air; 96-15 Valley Air.
137.19 | 2000-12 Evergreen.
141.101 | 98-18 General Aviation.
145.1 | 97-10 Alphin.
145.3 | 97-10 Alphin.
145.25 | 97-10 Alphin.
145.45 | 97-10 Alphin.
145.47 | 97-10 Alphin.
145.49 | 97-10 Alphin.
145.51 | 2000-1 Gatewood.
145.53 | 90-11 Thunderbird Accessories.
145.57 | 94-2 Woodhouse; 97-9 Alphin; 97-32 Florida Propeller.
145.61 | 90-11 Thunderbird Accessories.
191 | 90-12 & 90-19 Continental Airlines; 90-37 Northwest Airlines; 98-6 Continental Airlines; 99-12 TWA.
298.1 | 92-10 Flight Unlimited.
302.8 | 90-22 USAir.
49 CFR
1.47 | 92-76 Safety Equipment.
171 et seq. | 95-10 Diamond; 2000-20 Phillips Building Supply.
171.2 | 92-77 TCI; 94-28 Toyota; 94-31 Smalling; 95-16 Mulhall; 96-26 Midtown; 98-2 Carr.
171.8 | 92-77 TCI.
172.101 | 92-77 TCI; 94-28 Toyota; 94-31 Smalling; 96-26 Midtown.
172.200 | 92-77 TCI; 94-28 Toyota; 95-16 Mulhall; 96-26 Midtown; 98-2 Carr.
172.202 | 92-77 TCI; 94-28 Toyota; 94-31 Smalling; 95-16 Mulhall; 98-2 Carr.
172.203 | 94-28 Toyota.
172.204 | 92-77 TCI; 94-28 Toyota; 94-31 Smalling; 95-16 Mulhall; 98-2 Carr.
172.300 | 94-31 Smalling; 95-16 Mulhall; 96-26 Midtown; 98-2 Carr.
172.301 | 94-31 Smalling; 95-16 Mulhall; 98-2 Carr.
172.304 | 92-77 TCI; 94-31 Smalling; 95-16 Mulhall, 98-2 Carr.
172.400 | 92-77 TCI; 94-28 Toyota; 94-31 Smalling; 95-16 Mulhall; 98-2 Carr.
172.402 | 94-28 Toyota.
172.406 | 92-77 TCI.
173.1 | 92-77 TCI; 94-28 Toyota; 94-31 Smalling; 95-16 Mulhall; 98-2 Carr.
173.3 | 94-28 Toyota; 94-31 Smalling; 98-2 Carr.
173.6 | 94-28 Toyota.
173.22(a) | 94-28 Toyota; 94-31 Smalling; 98-2 Carr.
173.24 | 94-28 Toyota; 95-16 Mulhall.
173.25 | 94-28 Toyota.
173.27 | 92-77 TCI.
173.62 | 98-2 Carr.
173.115 | 92-77 TCI.
173.240 | 92-77 TCI.
173.243 | 94-28 Toyota.
173.260 | 94-28 Toyota.
173.266 | 94-28 Toyota, 94-31 Smalling.
175.25 | 94-31 Smalling.
191.5 | 97-13 Westair Commuter.
191.7 | 97-13 Westair Commuter.
821.30 | 92-73 Wyatt.
821.33 | 90-21 Carroll.
STATUTES
5 U.S.C.:
504 | 90-17 Wilson; 91-17 & 92-71 KDS Aviation; 92-74, 93-2 & 93-9 Wendt; 93-29 Sweeney; 94-17 TCI; 95-27 Valley Air; 96-22 Woodhouse; 98-19 Martin & Jaworski.
552 | 90-12, 90-18 & 90-19 Continental Airlines; 93-10 Costello.
554 | 90-18 Continental Airlines; 90-21 Carroll; 95-12 Toyota.
556 | 90-21 Carroll; 91-54 Alaska Airlines.
557 | 90-20 Degenhardt; 90-21 Carroll; 90-37 Northwest Airlines; 94-28 Toyota.
705 | 95-14 Charter Airlines.
5332 | 95-27 Valley Air.
11 U.S.C.:
362 | 91-2 Continental Airlines.
28 U.S.C.:
2412 | 93-10 Costello; 96-22 Woodhouse.
2462 | 90-21 Carroll.
49 U.S.C.:
5123 | 95-16 Mulhall; 96-26 & 97-1 Midtown Neon Sign; 98-2 Carr; 2000-20 Phillips Building Supply.
40102 | 96-17 Fenner.
41706 | 99-6 Squire.
44701 | 99-6 Ignatov; 96-17 Fenner; 99-12 TWA; 2000-3 Warbelow's.
44704 | 96-3 America West Airlines; 96-15 Valley Air.
46110 | 96-22 Woodhouse; 97-1 Midtown Neon Sign.
46301 | 97-1 Midtown Neon Sign; 97-16 Mauna Kea; 97-20 Werle; 99-15 Blue Ridge; 2000-3 Warbelow's.
46302 | 98-24 Stevens.
46303 | 97-7 Stalling.
49 U.S.C. App.:
1301(31) (operate) | 93-18 Westair Commuter.
(32) (person) | 93-18 Westair Commuter.
1356 | 90-18 & 90-19, 91-2 Continental Airlines.
1357 | 90-18, 90-19 & 91-2 Continental Airlines; 91-41 [Airport Operator]; 91-58 [Airport Operator].
1421 | 92-10 Flight Unlimited; 92-48 USAir; 92-70 USAir; 93-9 Wendt.
1429 | 92-73 Wyatt.
1471 | 89-5 Schultz; 90-10 Webb; 90-20 Degenhardt; 90-12, 90-18 & 90-19 Continental Airlines; 90-23 Broyles; 90-26 & 90-43 Waddell; 90-33 Cato; 90-37 Northwest Airlines; 90-39 Hart; 91-2 Continental Airlines; 90-18, 90-198 91-1 Continental Airlines;/ 91-3 Lewis; 91-18 [Airport Operator]; 91-53 Koller; 92-5 Delta Air Lines; 92-10 Flight Unlimited; 92-46 Sutton-Sautter; 92-51 Koblick; 92-74 Wendt; 92-76 Safety Equipment; 94-20 Conquest Helicopters; 94-40 Polynesian Airways; 96-6 Ignatov; 97-7 Stalling.
1472 | 96-6 Ignatov.
1475 | 90-20 Degenhardt; 90-12 Continental Airlines; 91-3 Lewis; 91-18 [Airport Operator]; 94-40 Polynesian Airways.
1486 | 90-21 Carroll; 96-22 Woodhouse.
1809 | 92-77 TCI; 94-19 Pony Express; 94-28 Toyota; 94-31 Smalling; 95-12 Toyota.
FRCP:
Rule 11 | 2000-17 Gottbetter.
Rule 26 | 2000-19 Horner.

Civil Penalty Actions—Orders Issued by the Administrator

Digests

(Current as of December 31, 2000)

The digests of the Administrator's final decisions and orders are arranged by order number, and briefly summarize key points of the decision. The following compilation of digests includes all final decisions and orders issued by the Administrator from July 1, 2000, to September 30, 2000. The FAA will publish non-cumulative supplements to this compilation on a quarterly basis (e.g., April, July, October, and January of each year).

These digests do not constitute legal authority, and should not be cited or relied upon as such. The digests are not intended to serve as a substitute for proper legal research. Parties, attorneys, and other interested persons should always consult the full text of the Administrator's decisions before citing them in any context.

In the Matter of John Nelson Meyer

Order No. 2000-22 (12/13/00)

Appeal dismissed. Complainant's appeal was dismissed as a result of its withdrawal of its notice of appeal.

In the Matter of Federal Express Corporation

Order No. 2000-23 (12/13/00)

Leave to file an additional brief granted. Federal Express demonstrated good cause to file an additional brief addressing the issue of whether the shipment involved in this case constituted an interline shipment, and as a result, whether Federal Express should be held to the higher standard of care to which air carriers are held. This is a new issue, raised for the first time in Complainant's reply brief. Federal Express was granted 30 days from the date of service of this order in which to file its additional brief, and Complainant was granted 30 days from the date of service of the additional brief to file a reply.

In the Matter of SONICO, Inc.

Order No. 2000-24 (12/21/00)

Cross-appeals dismissed. As a result of a settlement agreement, the parties withdrew their cross-appeals before filing their reply briefs. The parties' notices of appeal were dismissed.

Motion to vacate the law judge's decision denied. Complainant withdrew the complaint, and SONICO withdrew the answer. The parties requested by motion that the Administrator vacate the law judge's initial decision.

Once the complaint is withdrawn, there is no jurisdictional basis for the law judge's decision. The initial decision, then, has no force and effect, and Complainant cannot collect any civil penalty assessed by the law judge.

The parties' request that the Administrator vacate the law judge's initial decision was denied because it was unclear whether the Administrator has the authority to vacate an initial decision, because to do so would be inconsistent with Federal precedent. See U.S. Bancorp. Mortgage Co. v. Bonner Mall Partnership, 513 U.S. 18, 25 (1994), holding that “[w]here mootness results from settlement, * * * the losing party has voluntarily forfeited his legal remedy by the ordinary processes of appeal or certiorari, thereby surrendering his claim to the equitable remedy of vacatur.”

In the Matter of Riverdale Mills

Order No. 2000-25 (12/21/00)

Order dismissing the case reversed. At the beginning of the hearing, the agency attorney moved to amend the complaint. The agency attorney explained that Complainant had just learned that the correct proper shipping name and number for the substance that was shipped were Adhesives, UN 1133, not Methyl Ethyl Ketone, UN 1193, as alleged in the compliant. The law judge denied the motion to amend the complaint, and subsequently granted Riverdales' motion to dismiss.

The law judge failed to accept as true all the material allegations of the complaint when ruling on the motion to dismiss. Regardless of the proper shipping name, the complaint alleged that the substance in the cans was a hazardous material and that Riverdale violated the Hazardous Materials Regulations by failing to package, mark, and label the boxes properly, and to provide shipping papers and emergency response information. If the law judge had accepted these allegations as true, the only logical conclusion would have been that the complaint stated a valid cause of action.

Even if the wrong shipping name was alleged in the complaint, Riverdale had adequate notice of the charges against it. The allegation that Riverdale improperly shipping a flammable hazardous material still applies, as do all the same regulations allegedly violated. The issue is not whether Riverdale shipped Methyl Ethyl Ketone or Adhesives, but whether the substance it shipped was a hazardous material, and whether Riverdale complied with the regulations pertaining to packaging, marking, labeling, shipping papers, and emergency response information. Further, no prejudice to Riverdale was shown.

The Administrator reversed the order of dismissal, and remanded the case to the law judge for a hearing.

In the Matter of Aero National, Inc.

Order No. 2000-26 (12/21/00)

Competency and proficiency checks. Aero National used a check airman to administer an instrument proficiency test to another pilot when the check airman was not current on his own instrument proficiency tests. The law judge held that this was a violation of 14 CFR 135.337(b).

A competency test is a demonstration by an airman that he is able to fly a specific make and model of aircraft. A proficiency check is a test of a pilot's capability to fly on instruments and is not aircraft-specific.

On appeal, Aero National argued that 14 CFR 135.337(b) required only that the check airman be current on either his competency or proficiency test, and that the check airman, in this instance, was current on his competency test (although not on his instrument proficiency test). The Administrator rejected this argument.

The Administrator held that Aero National's interpretation of 14 CFR 135.337(b) was flawed because it focused on the word “or,” ignoring the language “that are required to serve as a pilot in command in operations under this part” that modifies proficiency or competency checks. The use of the disjunctive “or” is appropriate because it indicates that there are times when the check airman must have satisfactorily passed in a timely fashion either only the appropriate competency check (to fly VFR-only flights), or both the competency and instrument proficiency checks (to fly IFR and VFR flights). Under this regulation, the Part 135 operator may not use a check airman to perform flight checks for operations in which the check airman himself would not qualified to serve as pilot in commend.

Civil Penalty. The $3,300 civil penalty is appropriate in light of the potential hazards that could result when a check airman performs checks that he is not qualified to perform.

In the Matter of Phillips Buildings Supply

Order No. 2000-27 (12/21/00)

Reconsideration denied. Phillips' argument that the Administrator in FAA Order No. 2000-20 (August 11, 2000) used a mathematical formula in determining to assess a $14,000 civil penalty. The law judge considered the factors that are required to be considered by 49 U.S.C. § 5123(c). The Administrator did not intend to criticize Phillips for training its employees after the incident concerning the transportation of hazardous materials. However, the training was not intensive or timely enough to constitute a significant mitigating factor. By informing the UPS driver that the shipment contained Formica glue, Phillips' clerk did not shift responsibility for the violation to UPS. The clerk did not contact the UPS employees who had expertise in hazardous materials and ask for advice regarding how to package and ship the Formica glue properly. It was reasonable for the Administrator to assume that Phillips regularly handles hazardous materials in light of the fact that hardware stores commonly stock many items that are regulated under the Hazardous Materials Regulations, such as paint, turpentine, and paint thinner.

In the Matter of Lifeflite Medical Air Transport

Order No. 2000-28 (12/21/00)

Lifeflite filed a motion, requesting that the law judge dismiss the case because Lifeflite had surrendered its operating certificate, closed its business, and had no staff, money or assets. The law judge canceled the hearing and dismissed the compliant with prejudice, finding that “further proceedings, even if successful, would amount to * * * beating * * * a dead horse.”

Reversed and remanded. The Administrator granted Complainant's appeal, finding that Lifeflite had failed to sustain its burden to prove that it had no assets. The Administrator held that Lifeflite's surrender of its certificate did not obviate the need for a punitive sanction. A civil penalty would deter others similarly situated, and itself, if recertificated. The law judge's decision was reversed, and the case remanded to the Office of Hearings.

In the Matter of William Stevenson

Order No. 2000-29 (12/21/00)

The law judge construed Stevenson's failure to file an answer and to respond to an order to show cause as both a constructive withdrawal of his request for a hearing, and as an admission of the complaint's allegations.

Good cause not shown for failure to file an answer and response to order to show cause. Stevenson's argument on appeal that these failures were attributable to the use of the agency attorney and the law judge of the wrong address is rejected. Stevenson had actual notice of the requirement to file an answer because he did receive the complaint, which included information about that requirement. Also, Stevenson never supplied his new address to the agency attorney or to the law judge.

Penalty. The law judge's assessment of a $3,300 civil penalty is warranted in light of Stevenson's (1) drinking an alcoholic beverage not served to him by a flight crewmember; (2) threatening and intimidating a flight attendant, and (3) interfering with the duties of the pilot. The law judge's order was affirmed.

Commercial Reporting Services of the Administrator's Civil Penalty Decisions and Orders

1. Commercial Publications: The Administrator's decisions and orders in civil penalty cases are available in the following commercial publications:

Civil Penalty Cases Digest Service, published by Hawkins Publishing Company, Inc., P.O. Box 480, Mayo, MD, 21106, (410) 798-1677;

Federal Aviation Decisions, Clark Boardman Callaghan, a subsidiary of West Information Publishing Company, 50 Board Street East, Rochester, NY 14694, 1-800-221-9428.

2. On-Line Services. The Administrator's decisions and orders in civil penalty cases are available through the following on-line services:

• Westlaw (the Database ID is FTRAN-FAA)

• LEXIS [Transportation (TRANS) Library, FAA file.]

• Compuserve

Docket

The FAA Hearing Docket is located at FAA Headquarters, 800 Independence Avenue, SW, Room 926A, Washington, DC, 20591 (tel. no. 202-267-3641). The clerk of the FAA Hearing Docket is Ms. Stephanie McClain. All documents that are required to be filed in civil penalty proceedings must be filed with the FAA Hearing Docket Clerk at the FAA Hearing Docket. (See 14 CFR 13.210.) Materials contained in the docket of any case not containing sensitive security information (protected by 14 CFR Part 191) may be viewed at the FAA Hearing Docket.

In addition, materials filed in the FAA Hearing Docket in non-security cases in which the complaints were filed on or after December 1, 1997, are available for inspection at the Department of Transportation Docket, located at 400 7th Street, SW, Suite PL-40, Washington, DC, 20590, (tel. no. 202-366-9329.) While the originals are retained in the FAA Hearing Docket, the DOT Docket scans copies of documents in non-security cases in which the complaint was filed after December 1, 1997, into their computer database. Individuals who have access to the Internet can view the materials in these dockets using the following Internet address: http://dms.dot.gov.

FAA Offices

The Administrator's decisions and orders, indexes, and digests are available for public inspection and copying at the following location in FAA headquarters:

FAA Hearing Docket, Federal Aviation Administration, 800 Independence Avenue, SW, Room 926A, Washington, DC 20591; (202) 267-3641.

These materials are also available at all FAA regional and center legal offices at the following locations:

Office of the Regional Counsel for the Aeronautical Center (AMC-7), Mike Monroney Aeronautical Center, 6500 South MacArthur Blvd., Oklahoma City, OK 73169; (405) 954-3296.

Office of the Regional Counsel for the Alaskan Region (AAL-7), Alaskan Region Headquarters, 222 West 7th Avenue, Anchorage, AL 99513; (907) 271-5269.

Office of the Regional Counsel for the Central Region (ACE-7), Central Region Headquarters, 601 East 12th Street, Federal Building, Kansas City, MO 64106; (816) 426-5446.

Office of the Regional Counsel for the Eastern Region (AEA-7), 1 Aviation Plaza, 159-30 Rockaway Blvd., Springfield Gardens, NY 11434; (718) 553-3285.

Office of the Regional Counsel for the Great Lakes Region (AGL-7), Great Lakes Region Headquarters, O'Hare Lake Office Center, 2300 East Devon Avenue, Suite 419, Des Plaines, IL 60018; (847) 294-7085.

Office of Regional Counsel for the New England Region (ANE-7), New England Region Headquarters, 12 New England Executive Park, Room 401, Burlington, MA 01803; (781) 238-7040.

Office of the Regional Counsel for the Northwest Mountain Region (ANM-7), Northwest Mountain Region Headquarters, 1601 Lind Avenue, SW, Renton, WA 98055; (425) 227-2007.

Office of the Regional Counsel for the Southern Region (ASO-7), Southern Region Headquarters, 1701 Columbia Avenue, College Park, GA 30337; (404) 305-5200.

Office of the Regional Counsel for the Southwest Region (ASW-7), Southwest Region Headquarters, 2601 Meacham Blvd., Fort Worth, TX 76137; (817) 222-5064.

Office of the Regional Counsel for the Technical Center (ACT-7), William J. Hughes Technical Center, Atlantic City International Airport, Atlantic City, NJ 08405; (609) 485-7088.

Office of the Regional Counsel for the Western-Pacific Region (AWP-7), Western-Pacific Region Headquarters, 15000 Aviation Boulevard, Hawthorne, CA 90261; (301) 725-7100.

Dated: Issued in Washington, DC, on January 11th, 2001.
James S. Dillman,
Assistant Chief Counsel for Litigation.

[FR Doc. 01-1675 Filed 1-22-01; 8:45 am]

BILLING CODE 4910-13-M